DEPARTMENT OF DEFENSE

Office of the Secretary

[Docket ID DoD-2022-OS-0125]

Proposed Collection; Comment Request

AGENCY: Under Secretary of Defense for Acquisition and Sustainment (USD(A&S)), Department of Defense (DoD).

ACTION: 60-Day information collection notice.

SUMMARY: In compliance with the Paperwork Reduction Act of 1995, the Defense Logistics Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 17, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Logistics Agency (J62C), 8725 John J. Kingman Road, Ft. Belvoir, VA 22060-6221, ATTN: Greg Riley, or call 571-767-3996.

SUPPLEMENTARY INFORMATION: Title; Associated Form; and OMB Number: Joint Contingency and Expeditionary Services (JCXS); OMB Control Number 0704-0589.

Needs and Uses: The information collection necessary to maintain the safety of contractors and U.S. Armed Forces while ensuring that the U.S. Government is not doing business with entities at odds with American interests. Joint Contingency and Expeditionary Services (JCXS) contains two modules. The Joint Contingency Contracting System (JCCS) evaluates vendors for possible approval or acceptance to do business with and have access to U.S. military installations around the world. The Civilian Arming Authorization Management System (CAAMS) provides a standardized and automated process for the submission, review, approval, and compliance management of the contractor arming process. JCXS is the DoD's agile, responsive, and global provider of Joint expeditionary acquisition business solutions that fulfill mission-critical requirements while supporting interagency collaboration—to include, but not limited to, contracting, finance, spend analysis, contract close-out, staffing, strategic sourcing, and reporting.

Affected Public: Individuals or households.

Annual Burden Hours: 2,750.

Number of Respondents: 5,500.

Responses per Respondent: 1.

Annual Responses: 5,500.

Average Burden per Response: 30 minutes.

Frequency: On occasion.

Dated: November 8, 2022.
Aaron T. Siegel,
Alternate OSD Federal Register Liaison Officer, Department of Defense.

[FR Doc. 2022-24777 Filed 11-14-22; 8:45 am]

BILLING CODE 5001-06-P